DEPARTMENT OF THE INTERIOR

Bureau of Land Management

43 CFR Part 8360

[BLM_CO_FRN_MO4500180623]

Notice of Final Supplementary Rule for Public Lands Administered by the Tres Rios Field Office in Archuleta, La Plata, Montezuma, Dolores, San Miguel, and Montrose Counties, and by the Gunnison Field Office in Gunnison, Ouray, San Juan, and Hinsdale Counties, Colorado

AGENCY: Bureau of Land Management, Interior.

ACTION: Final supplementary rule.

SUMMARY: The Bureau of Land Management (BLM) is finalizing a supplementary rule for BLM-administered public lands in the Tres Rios Field Office (TRFO) and Gunnison Field Office (GFO). The final supplementary rule will allow the BLM to implement and enforce decisions related to motorized and non-motorized vehicles, day-use areas, seasonal wildlife habitat protection, camping, and campfires.

DATES: The final supplementary rule is effective on January 18, 2025.

ADDRESSES: Inquiries may be directed to the BLM TRFO, 29211 Highway 184, Dolores, CO 81323, or at (970) 882-1120; or to the BLM GFO, 2500 E. New York Ave, Gunnison, CO 81230 or at (970) 642-4940.

FOR FURTHER INFORMATION CONTACT: Tyler Fouss, Field Staff Ranger, BLM TRFO, 29211 Highway 184, Dolores, CO 81323; telephone 970-882-1131; email: tfouss@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. Background

II. Discussion of Public Comments

III. Discussion of Final Supplementary Rule

IV. Procedural Matters

V. Final Supplementary Rule

I. Background

The BLM is establishing this supplementary rule under the authority of 43 CFR 8365.1-6, which authorizes BLM State Directors to establish supplementary rules for the protection of persons, property, and public lands and resources.

In 2015, the TRFO approved a Resource Management Plan (RMP) to replace portions of the San Juan/San Miguel RMP that are within the jurisdiction of the TRFO (previously known as the San Juan Resource Area). The two approved RMPs and Records of Decision provide direction on how the BLM will manage public lands in Archuleta, La Plata, Montezuma, Dolores, San Miguel, Montrose, Gunnison, San Juan, Ouray, and Hinsdale counties, Colorado, except for public lands that are within the Canyon of the Ancients National Monument, which is managed under a separate RMP approved in 2010. During the public planning and analysis processes for the TRFO RMP, the BLM identified the need to establish a supplementary rule to provide for visitor health and safety and to protect cultural, wildlife, and natural resources on public lands managed by the BLM.

The TRFO RMP carries forward decisions in the Dolores River Corridor Management Plan (CMP) and the Alpine Triangle Recreation Area Management Plan (RAMP), which were approved in 1990 and 2010, respectively. The Silverton Travel Management Plan (TMP) and the TRFO Transportation and Access Plan for Travel Area 1 (TAP1) were both approved in 2020.

Over the past 10 years, the BLM has recorded increases in visitation numbers and subsequent pressures to Special Recreation Management Areas (SRMAs), critical winter wildlife habitat areas, and archaeological sites throughout the TRFO and GFO. To address the growing concerns, the BLM is establishing this supplementary rule to implement decisions in the five management plans to protect visitor health and safety and prevent natural and cultural resource degradation.

When the BLM adopted the TRFO RMP, the plan included BLM-managed lands that are now under the jurisdiction of the GFO due to changes in the TRFO and GFO boundaries. Neither the TRFO RMP nor the GFO RMP have been updated to reflect these changes; thus, the rule will also apply to BLM-managed lands now administered by the GFO in parts of Hinsdale, San Juan, and Ouray counties.

Several sections of the rule will implement decisions spanning all public lands managed by the BLM in the TRFO and GFO. Other sections will apply only to specific types of BLM-managed lands, such as SRMAs or critical winter wildlife habitat areas experiencing the most visitation. The rule will only address land use limitations and restrictions previously proposed, analyzed, and approved as part of the public planning processes for the TRFO RMP, Dolores River CMP, Alpine Triangle RAMP, Silverton TMP, and TRFO TAP1, and their associated environmental impact statements (EIS) or environmental assessments (EA). The BLM developed the five management plans with extensive input from the public, Tribes, and elected officials through scoping, opportunities for public comment, and resource advisory committee meetings. The BLM took the following steps to involve the public in developing the plans that are the basis for this final supplementary rule:

1. The TRFO RMP was initially a joint agency planning effort by the BLM and U.S. Forest Service, which included extensive public participation in determining appropriate uses in the planning area. Public comments and input received during all planning stages resulted in the BLM fine-tuning the TRFO RMP, which applies only to public lands managed by the BLM.

2. Public participation for the Dolores River CMP was a coordinated effort consisting of a task force of people representing diverse interests, including local governments, private landowners, wildlife and fishing enthusiasts, resource conservationists, and private and commercial boaters. In addition, the BLM hosted several public meetings in local communities surrounding the planning area to consider options for managing the river canyon.

3. Public participation was vital to developing the Alpine Triangle RAMP. The BLM developed and implemented a public involvement strategy to obtain input from a diverse group of stakeholders and set the stage for community support.

4. The public involvement effort for the Silverton TMP included opportunities for the public to provide feedback during scoping and review of the EA and a BLM open house public meeting at Kendall Mountain in Silverton, Colorado.

5. To develop the TRFO TAP1, the BLM met with various individuals, organizations, and interest groups representing motorized, equestrian, and mechanized users as well as conservation organizations. The BLM also hosted open-house meetings to solicit initial public input.

II. Discussion of Public Comments

The BLM published a proposed supplementary rule on February 28, 2024 (89 FR 14606) and received 24 comments during the 60-day public comment period. Five commenters expressed support for the supplementary rule.

One commenter expressed opposition to proposed rules restricting mechanized travel and indicated that the rule is an affront to accessibility for people unable to walk or bike. Under proposed Rules 1, 4, 8, and 12, mechanized travel is allowed on designated routes. Proposed Rules 5 and 7 prohibit all mechanized travel within the Perins Peak Wildlife Management Area, designated Wilderness Study Areas, and the Coyote Wash and Snaggletooth lands with wilderness characteristics. Proposed Rule 4 prohibits mechanized vehicles within the Willow Creek Wildlife Management Area from December 1 through June 30 each year. The proposed rule's definition of mechanized travel exempts wheelchairs from mechanized-travel restrictions. Any change to the mechanized travel restrictions would require the BLM to amend the underlying RMP. The BLM did not revise the final supplementary rule in response to this comment.

One commenter indicated that proposed rule 24, which states that “You must register at a developed BLM river launch point prior to watercraft use from Bradfield Bridge to Bedrock,” is unclear. In response, the BLM is clarifying the language in the final rule to read that the rule applies only to river trips. The same commenter stated that the rule cannot apply to private lands. The proposed rule already stipulates that it applies only to specified BLM public lands as does the final rule, so no change is needed.

One commenter stated that the TRFO RMP does not have a Phil's World Recreation Management Zone (RMZ), does not specify that wildlife closures are to be lifted on April 15 of each year, and does not have restrictions for domestic animals in the Cortez SRMA, Durango SRMA, or Silverton SRMA. In response to this comment, the final rule changes the reference to “Phil's World RMZ” in proposed Rule 16 to the “Phil's World Area.” Lifting wildlife closures on April 15 is specific to the annual Durango area wildlife closures as set forth in the TRFO RMP. Restrictions pertaining to domestic animals are detailed in Appendix E of the TRFO RMP.

One commenter disputed the proposed requirement in Rule 15 that, particularly within the Silverton SRMA, domestic animals such as dogs must be controlled by leash or voice command to prevent negative interactions between recreationalists and sheep herds, including the dogs used to protect them. The commenter indicated that the rule should apply to the dogs used to protect the sheep as well and that sheepherders should consider using less aggressive dog breeds. Any change to the decisions that domestic animals be leashed and under voice control in the Silverton SRMA would require the BLM to amend the underlying RMP. The BLM did not revise the final rule in response to this comment.

A form email received from 14 individuals expressed general concerns with what they view as arbitrary dates for closures, group size limits, and camping limitations and indicated that they do not want to see additional restrictions in the Dolores River corridor. The commenters further indicated that, if a certain amount of acreage is restricted to overnight camping, the BLM needs to open additional acreage somewhere else to accommodate the growing number of recreation users on public lands.

Rules that have user-restriction dates are for winter wildlife closures, which are needed to reduce stress and impacts on wildlife. The restricted dates were analyzed as part of the Tres Rios RMP and correspond with the dates set by Colorado Parks and Wildlife for winter wildlife closures on State-managed public lands. Rules that have group-size limits are for river trips within the Dolores River corridor and were analyzed in the Dolores River CMP. Rules that have camping limitations are in place in the Cortez SRMA, the Durango SRMA, and within the Alpine Triangle. In the Cortez SRMA, the Phil's World and Mud Springs areas are designated as day-use areas. Camping is available elsewhere within the Cortez SRMA. The Durango SRMA is in the urban interface with the City of Durango, and dispersed camping is available on BLM-managed public lands within a short distance from the Durango SRMA. In the Alpine Triangle, camping is only restricted around historic sites, and dispersed camping is allowed throughout the rest of the area and in developed campgrounds. Rules stipulating wildlife closure dates, group size limits, and camping restrictions were established in the five management plans and cannot be changed without plan amendments.

One commenter indicated that proposed rule number 27, which states that “You must not gather dead or down wood,” should be clearer. In response to this comment, the BLM has revised the final rule to clarify that only the collection and burning of driftwood during river trips is prohibited, as specified in the Dolores River CMP.

III. Discussion of the Final Supplementary Rule

The final supplementary rule will apply only to public lands and facilities managed by the TRFO and the GFO.

The decisions from the five management plans that this final supplementary rule will implement are focused on protecting public health and safety and preventing damage to natural and cultural resources. The five management plans include decisions concerning restrictions, prohibitions, and allowable uses to address identified issues or achieve management goals and objectives. For these decisions to be effectively implemented, enforcement is needed, first to ensure the management decisions are properly understood and followed, and second to provide for civil and criminal penalties should these restrictions and prohibitions not be followed. Most public land users will not notice meaningful changes as many of the sections of the supplementary rule have been long-held recommendations that will now become regulations.

IV. Procedural Matters

Regulatory Planning and Review (Executive Orders (E.O.) 12866 and 13563)

The final supplementary rule is not a significant regulatory action and is not subject to review by the Office of Management and Budget under E.O. 12866 as amended by E.O. 14094. The final supplementary rule will not have an annual effect of $200 million or more on the economy. It will not adversely affect, in a material way, the economy; productivity; competition; jobs; the environment; public health or safety; or State, local, or Tribal governments or communities. The final supplementary rule will not create a serious inconsistency or otherwise interfere with an action taken or planned by another agency. The final supplementary rule will not materially alter the budgetary effects of entitlements, grants, user fees, loan programs, or the rights or obligations of their recipients; nor does it raise novel legal or policy issues. The final rule merely establishes rules of conduct for public use on a limited area of public lands.

Regulatory Flexibility Act

Congress enacted the Regulatory Flexibility Act (RFA) of 1980, as amended (5 U.S.C. 601-612), to ensure that Government regulations do not unnecessarily or disproportionately burden small entities. The RFA requires a regulatory flexibility analysis if a rule would have a significant economic impact, either detrimental or beneficial, on a substantial number of small entities. The BLM considered economic impacts at the time the land use plans were developed and these impacts were deemed to be minimal. The BLM expects impacts from this final rule to affect a small number of outfitters and have only a minor socioeconomic impact relative to the area's overall economy.

The requirements contained within this final supplementary rule are based on decisions the BLM made when it developed five land-use management plans between 1990 and 2015. This final rule codifies those decisions so that the BLM can ensure the public properly understands and follows them. This final rule also provides for civil and criminal penalties should the public not follow these restrictions and prohibitions. Most public land users, including small businesses that operate on BLM-managed public lands, will not notice any meaningful changes as many of the sections of the supplementary rule have been long-held recommendations that the public has largely been following. These recommendations will now become regulations. Therefore, the BLM has determined under the RFA the final supplementary rule will not have a significant economic impact on a substantial number of small entities.

Congressional Review Act

This final supplementary rule is not “major” as defined under 5 U.S.C. 804(2). This rule:

(a) Will not have an annual effect on the economy of $200 million or more.

(b) Will not cause a major increase in costs or prices for consumers, individual industries, Federal, State, or local government agencies, or geographic regions.

(c) Will not have significant adverse effects on competition, employment, investment, productivity, innovation, or the ability of U.S.-based enterprises to compete with foreign-based enterprises.

Unfunded Mandates Reform Act

This final supplementary rule will not impose an unfunded mandate on State, local, or Tribal governments in the aggregate, or the private sector, of more than $100 million per year, nor will it have a significant or unique effect on small governments. Therefore, the BLM is not required to prepare a statement containing the information required by the Unfunded Mandates Reform Act (2 U.S.C. 1531 et seq.).

Governmental Actions, and Interference With Constitutionally Protected Property Rights (Takings) (E.O. 12630)

The final supplementary rule is not a government action capable of interfering with constitutionally protected property rights. The final supplementary rule does not address property rights in any form and will not cause the impairment of constitutionally protected property rights. Therefore, the BLM has determined the final supplementary rule will not cause a “taking” of private property or require further discussion of takings implications under this Executive order.

Federalism (E.O. 13132)

The final supplementary rule will not have a substantial direct effect on the States, on the relationship between the Federal Government and the States, or on the distribution of power and responsibilities among the various levels of government. The final supplementary rule does not conflict with any State law or regulation. Therefore, in accordance with E.O. 13132, the BLM has determined the supplementary rule does not have sufficient Federalism implications to warrant preparation of a Federalism Assessment.

Civil Justice Reform (E.O. 12988)

Under E.O. 12988, the BLM has determined the final supplementary rule will not unduly burden the judicial system and the requirements of sections 3(a) and 3(b)(2) of the Order are met.

Consultation and Coordination With Indian Tribal Governments (E.O. 13175 and Departmental Policy)

In accordance with E.O. 13175, the BLM has determined the final supplementary rule does not include policies that have Tribal implications and will have no bearing on trust lands or on lands for which title is held in fee status by American Indian Tribes or U.S. Government-owned lands managed by the Bureau of Indian Affairs. Since the supplementary rule does not involve Indian reservation lands or resources, the BLM has determined government-to-government relationships remain unaffected.

Paperwork Reduction Act

The final supplementary rule does not contain information collection requirements the Office of Management and Budget must approve under the Paperwork Reduction Act of 1995, 44 U.S.C. 3501 through 3521.

National Environmental Policy Act (NEPA)

The final supplementary rule will allow the BLM to implement and enforce key decisions in the TRFO RMP, the Dolores River CMP, the Alpine Triangle RAMP, the Silverton TMP, and the TRFO TAP1 within TRFO and GFO. The supplementary rule will not change the NEPA analysis or decisions set forth in each of the plans. During the NEPA review for each of these planning efforts, the BLM fully analyzed the effects of this final supplementary rule in their respective NEPA documents:

• TRFO RMP EIS (DOI-BLM-CO-S010-2011-0067-EIS)

• Dolores River CMP EA (DOI-BLM-CO-030-SJ-90-46)

• Alpine Triangle RAMP EA (DOI-BLM-CO-160-2008-023-EA)

• Silverton TMP EA (DOI-BLM-CO-F070-2019-0008-EA)

• TRFO TAP1 EA (DOI-BLM-CO-S010-2018-0013)

The BLM prepared a Determination of NEPA Adequacy to confirm that the prior analyses and public comment processes were sufficient to inform the decision to establish this supplementary rule. Therefore, additional NEPA analysis is not required. Copies of the NEPA analysis and relevant decision document for each of the aforementioned plans, and the Determination of NEPA Adequacy for this supplementary rulemaking, are on file at the BLM offices at the addresses specified in the ADDRESSES section and electronic copies are available online at https://eplanning.blm.gov/eplanning-ui/project/96401/510.

Information Quality Act

In developing the final supplementary rule, the BLM did not conduct or use a study, experiment or survey requiring peer review under the Information Quality Act (section 515 of Pub. L. 106-554).

Actions Concerning Regulations That Significantly Affect Energy Supply, Distribution, or Use (E.O. 13211)

The final supplementary rule does not comprise a significant energy action. The final supplementary rule will not have an adverse effect on energy supply, production, or consumption and have no connection with energy policy.

Facilitation of Cooperative Conservation (E.O. 13352)

In accordance with E.O. 13352, the BLM has determined the final supplementary rule will not impede facilitating cooperative conservation; will take appropriate account of and consider the interests of persons with ownership or other legally recognized interests in land or other natural resources; will properly accommodate local participation in the Federal decision-making process; and will provide that the programs, projects, and activities are consistent with protecting public health and safety.

Author

The principal author of the final supplementary rule is Tyler Fouss, Field Staff Ranger, Bureau of Land Management, Tres Rios Field Office, Colorado.

V. Final Supplementary Rule

For the reasons stated in the preamble, and under the authorities for supplementary rules at 43 U.S.C. 1733, 43 U.S.C. 1740, and 43 CFR 8365.1-6, the BLM Colorado State Director establishes this Supplementary Rule for public lands managed by the BLM in the Tres Rios Field Office and the Gunnison Field Office, to read as follows:

FINAL SUPPLEMENTARY RULE FOR THE TRES RIOS FIELD OFFICE AND GUNNISON FIELD OFFICE

Definitions

Area of Critical Environmental Concern (ACEC) has the same meaning as it does at 43 CFR 1601.0-5(a).

Campfire has the same meaning as it does at 43 CFR 8360.0-5(b).

Camping means the erecting of a tent or shelter of natural or synthetic material, preparing a sleeping bag or other bedding material for use, parking of a motor vehicle, motor home or trailer, or mooring of a vessel, for the apparent purpose of recreational overnight occupancy.

Designated travel route means roads and trails open to specified modes of travel and identified on a map of designated roads and trails available for public inspection at the BLM Tres Rios Field Office, Colorado. Designated roads and trails are open to public OHV use in accordance with such limits and restrictions as are, or may be, specified in the RMP or a Travel Management Plan (TMP), or in future decisions implementing the RMP. This definition excludes any road or trail with BLM-authorized restrictions preventing use of the road or trail. Restrictions may include, but are not limited to, signs or physical barriers such as gates, fences, posts, branches, or rocks.

Fire pan means a metal container capable of containing a campfire for purposes of containing all ash and protecting the underlying soils from scorching.

Herd Management Area means those lands under the supervision of the Bureau of Land Management managed for the maintenance of wild horse and burro herds.

Historic structure means any prehistoric or historic district, site, building, structure, or object included in, or eligible for inclusion in, the National Register of Historic Places. The term includes properties of traditional religious and cultural importance to an Indian Tribe or Native Hawaiian organization and that meet the National Register criteria. The term “eligible for inclusion in the National Register of Historic Places” includes both properties formally determined as such by the Secretary of the Interior and all other properties that meet National Register of Historic Places listing criteria.

Lands managed to protect wilderness characteristics means those lands that have been:

(1) Inventoried and determined by the BLM to contain wilderness characteristics as defined in section 2(c) of the Wilderness Act; and

(2) Identified to protect those characteristics through a land use planning process and subsequent Record of Decision.

Mechanized vehicle means any device propelled solely by human power, upon which a person, or persons, may ride on land, having any wheels, with the exception of a wheelchair.

Motorized vehicle means any vehicle propelled by a motor or engine, capable of, or designed for, travel on or immediately over land, water, or other natural terrain, such as a car, truck, off-highway vehicle, motorcycle, or snowmobile. Off-highway vehicle has the same meaning as it does in 43 CFR 8340.0-5(a).

Portable toilet means a washable, leak-proof, reusable toilet system that allows for the carry-out and disposal of solid human body waste in a responsible and lawful manner; the system must be adequate for the size of the group and length of the trip. If a Wag Bag system is used it must be in a hard-sided, clamped or screw top container—not a dry bag.

Public lands has the same meaning as it does at 43 U.S.C. 1702(e).

Resource damage means damage to or disturbance of the soil, wildlife, wildlife habitat, improvements, cultural, or vegetative resources.

Special Recreation Management Area (SRMA) means an administrative unit where the existing or proposed recreation opportunities and recreation setting characteristics are recognized for their unique value, importance and/or distinctiveness, especially as compared to other areas used for recreation.

Wilderness Study Area (WSA) means an area that has been identified as a Wilderness Study Area in either the Gunnison or TRFO RMPs.

Prohibited Acts

Unless otherwise authorized, the following acts are prohibited on all public lands, roads, trails, and waterways administered by the BLM within the areas defined:

Within the Cortez Special Recreation Management Area (SRMA), the Dolores River SRMA, the Durango SRMA, the Ancestral Puebloan Area of Critical Environmental Concern (ACEC), the Gypsum Valley ACEC, the Mesa Verde Escarpment ACEC, the Perins Peak and Willow Creek Wildlife Management Areas, the Spring Creek Wild Horse Herd Management Area, as identified in the TRFO RMP:

1. You must not operate or possess a mechanized vehicle on any route, trail, or area not designated as open to such use, unless you are using a mechanized game cart to retrieve a large game animal with a valid carcass tag. Game carts are not allowed within the Perins Peak Wildlife Management Area.

2. You must not use vehicles designed for traveling over snow unless there is adequate snow cover to protect the underlying vegetation and soils from the impact of that use. This use is prohibited in designated Wilderness, Wilderness Study Areas (WSAs), or lands with wilderness characteristics that are managed to protect wilderness characteristics, in areas designated by Colorado Parks and Wildlife as critical big game winter relief and winter concentration areas, or areas designated by Colorado Parks and Wildlife as occupied Gunnison sage-grouse habitat.

3. You must not operate or possess a motorized vehicle beginning 2.4 miles north of the San Miguel/Dolores County line on the section of Road 14F vacated by San Miguel County (road vacated 2.4 miles north of the San Miguel/Dolores County line for a distance of 2.4 miles) from February 1 through May 1 each year to protect Desert Bighorn Sheep lambing, within the Dolores River SRMA.

4. You must not operate a mechanized vehicle within the Willow Creek Wildlife Management Area from December 1 through June 30 each year for the protection of Gunnison Sage-grouse habitat.

5. You must not operate a mechanized vehicle within the Perins Peak Wildlife Management Area.

6. You must not hike, ride, or be in possession of horses or other pack animals on any route, trail, or area not designated as open to such use within the Ancestral Puebloan ACEC and Mesa Verde Escarpment ACEC. Hiking and horseback riding is allowed both on and off designated travel routes throughout the remainder of the area managed by the Tres Rios Field Office.

Within Designated WSAs and the Coyote Wash and Snaggletooth Lands With Wilderness Characteristics, as Identified in the TRFO RMP

7. You must not operate or possess a mechanized vehicle.

Within Archuleta County, La Plata County, and Montezuma County, as Identified in the TRFO TAP-1

8. You must not operate or possess a mechanized vehicle on any route, trail, or area not designated as open to such use, unless you are using a mechanized game cart to retrieve a large game animal with a valid carcass tag. Game carts are not allowed within the Perins Peak Wildlife Management Area.

9. You must not park or use a motorized or mechanized vehicle more than 100 feet from the edge of a designated travel route (e.g., for such uses as camping, picnicking, or firewood cutting) as identified in the Travel Management Plan and travel management maps and firewood cutting map.

10. You must not park a motorized vehicle more than 20 feet from the edge of a designated travel route or in a manner that causes resource damage in the Chutes and Ladders portion of the Cortez SRMA or the Mahan area within La Plata County.

11. You must not use vehicles designed for traveling over snow unless there is adequate snow cover to protect the underlying vegetation and soils from the impact of that use. This use is prohibited in designated Wilderness, WSAs, or other lands managed to protect wilderness characteristics, in areas designated by Colorado Parks and Wildlife as critical big game winter relief and winter concentration areas, or in areas designated by Colorado Parks and Wildlife as occupied Gunnison sage-grouse habitat.

Within the Silverton SRMA as Identified in the TRFO RMP and the Silverton TMP Administered by the GFO

12. You must not operate or possess a mechanized vehicle on any route, trail, or area not designated as open to such use unless you are using a mechanized game cart to retrieve a large game animal with a valid carcass tag outside of designated WSAs, or congressionally designated Wilderness Areas.

13. You must not park a motorized vehicle more than 30 feet from the edge of a designated travel route or in a manner that causes resource damage.

14. You must not use vehicles designed for traveling over snow unless there is adequate snow cover to protect the underlying vegetation and soils from the impact of that use. This use is prohibited in designated WSAs, congressionally designated Wilderness areas, and other lands managed to protect wilderness characteristics. This use is also prohibited in areas designated by Colorado Parks and Wildlife as critical big game winter relief and winter concentration areas or areas designated by Colorado Parks and Wildlife as occupied Gunnison sage-grouse habitat.

Within the Cortez SRMA, Durango SRMA and Silverton SRMA, as Identified in the TRFO RMP

15. Domestic animals must be on a leash or under voice command.

Within the Cortez SRMA and the Durango SRMA as Identified in the TRFO RMP

16. You must not enter or use the area within the Phil's World Area and Mud Springs RMZ portion of the Cortez SRMA ½ hour after sunset to ½ hour before sunrise unless:

a. You are using the non-motorized trails within the Phil's World Area; or

b. You are a licensed hunter and acting in accordance with all rules and regulations as defined by Colorado Parks and Wildlife.

17. You must not enter or use the area ½ hour after sunset to ½ hour before sunrise within the Animas City Mountain, Skyline, and Grandview Recreation Management Zones of the Durango SRMA, except if you are a licensed hunter and acting in accordance with all rules and regulations as defined by Colorado Parks and Wildlife.

18. You must not build, ignite, maintain, or attend to a fire or campfire within the Animas City Mountain, Skyline, and Grandview Recreation Management Zones of the Durango SRMA.

Within the Alpine Triangle as Identified in the TRFO RMP and the Alpine Triangle RAMP for the GFO

19. You must not camp within 300 feet of the Animas Forks district boundary and the Gold Prince Mill National Register Districts.

20. You must not camp within 150 feet of a historic structure.

21. You must not ignite or maintain a campfire within 150 feet of a historic structure.

22. You must not ignite or maintain a campfire above 12,000 feet within the Redcloud Peak ACEC.

Within the Dolores River SRMA as Identified in the TRFO RMP and the Dolores River CMP

23. You must not use motorized watercraft from Bradfield Bridge to Bedrock.

24. During river trips, you must register at a developed BLM river launch point or with the Tres Rios Field Office prior to watercraft use from Bradfield Bridge to Bedrock.

25. During river trips, you must not exceed posted group-size limits.

26. During overnight river trips, you must dispose of human waste into a portable toilet.

27. You must not gather or burn driftwood.

28. You must not have a campfire or charcoal fire without the use of a fire pan.

29. You must pack out all ashes associated with a campfire or charcoal fire.

Within the Cortez SRMA, Durango SRMA and Perins Peak Wildlife Management Area as Identified in the TRFO RMP

30. You must not enter the Chutes-n-Ladders, Summit, and Aqueduct areas of the Montezuma Triangle Recreation Management Zone within the Cortez SRMA from December 1 through April 30 each year for the protection of critical winter wildlife habitat. Travel on county roads through the areas is allowed.

31. You must not enter identified closure areas in the Animas City Mountain and Grandview Ridge Recreation Management Zones of the Durango SRMA from December 1 through April 30 each year for the protection of critical winter wildlife habitat. This closure may be opened April 15 if conditions and wildlife needs warrant.

32. You must not enter identified closure areas in the Perins Peak Wildlife Management Area from December 1 through April 30 each year for the protection of critical winter wildlife habitat. This closure may be opened April 15 if conditions and wildlife needs warrant.

33. You must not enter identified closure areas in the Perins Peak Wildlife Management Area from March 15 through July 31 each year for the protection of critical raptor habitat.

Exemptions

The following persons are exempt from this supplementary rule: any Federal, State, or local officers or employees acting within the scope of their official duties; members of any organized law enforcement, military, rescue, or fire-fighting force performing an official duty; and any persons who are expressly authorized or approved by the BLM Authorized Officer.

Enforcement

Any person who violates any part of this supplementary rule may be tried before a United States Magistrate and fined in accordance with 18 U.S.C. 3571, imprisoned no more than 12 months under 43 U.S.C. 1733(a) and 43 CFR 8360.0-7, or both. In accordance with 43 CFR 8365.1-7, State or local officials may also impose penalties for violations of Colorado or local law.

(Authority: 43 U.S.C. 1733, 43 U.S.C. 1740; 43 CFR 8365.1-6)

Douglas J. Vilsack,
BLM Colorado State Director.

[FR Doc. 2024-30059 Filed 12-18-24; 8:45 am]

BILLING CODE 4331-16-P